FEDERAL COMMUNICATIONS COMMISSION

47 CFR Part 1

[WC Docket No. 07-267; FCC 09-56]

Forbearance Petition Filing Requirements

AGENCY: Federal Communications Commission.

ACTION: Final rule; confirmation of effective date.

SUMMARY: On August 6, 2009, the Commission published a final rule adopting procedural rules to govern petitions for forbearance filed pursuant to section 10 of the Communications Act of 1934, as amended. One section within that document could not take effect until the Office of Management and Budget (OMB) had approved the associated information collection requirements. OMB approved those information collection requirements on April 5, 2010, under OMB Control Number 3060-1138. This document confirms the effective date of that rule.

DATES: 47 CFR 1.54, published at 74 FR 39219, August 6, 2009, is effective March 28, 2011.

FOR FURTHER INFORMATION CONTACT: Jonathan Reel, Competition Policy Division, Wireline Competition Bureau, at 202-418-1885 or e-mail: Jonathan.Reel@fcc.gov.

SUPPLEMENTARY INFORMATION: This document announces that, on April 5, 2010, OMB approved, for a period of three years, the information collection requirements contained in the Commission's “complete as filed rule” for forbearance petitions under section 10 of the Communications Act of 1934, as amended. The Commission adopted that rule in its Forbearance Procedures Order. The rule is codified at 47 CFR 1.54. This notice confirms that the Commission received OMB approval for that collection on April 5, 2010 (OMB Control Number is 3060-1138).

Under 5 CFR part 1320, an agency may not conduct or sponsor a collection of information unless it displays a current, valid OMB Control Number. No person shall be subject to any penalty for failing to comply with a collection of information subject to the Paperwork Reduction Act that does not display a current, valid OMB Control Number. Questions concerning OMB Control Number 3060-1138 and its expiration date should be directed to Judith Boley-Herman, Federal Communications Commission, Room 1-B441, 445 12th Street, SW., Washington, DC.

Federal Communications Commission.
Marlene H. Dortch,
Secretary.

[FR Doc. 2011-7236 Filed 3-25-11; 8:45 am]

BILLING CODE 6712-01-P